DEPARTMENT OF THE INTERIOR

Fish and Wildlife Service

San Dieguito Lagoon Restoration Plan Final Environmental Impact Statement/Report

AGENCY: Fish and Wildlife Service, Department of the Interior.

ACTION: Notice of availability of final environmental impact statement/report for the San Dieguito Lagoon Restoration Plan, San Diego County, California.

SUMMARY: Pursuant to the National Environmental Policy Act of 1969, the Fish and Wildlife Service (FWS) announces the availability of a final environmental impact statement/report (FEIS/R) for the San Dieguito Lagoon Restoration Plan, San Diego County, California.

DATES: A 30-day review period will follow the Environmental Protection Agency's notice of availability of the FEIS/R on September 15, 2000.

ADDRESSES: Public reading copies of the FEIS/R will be available for review at:

Fish and Wildlife Service, 2730 Loker Ave. West, Carlsbad, California 92008

San Dieguito River Park, 18372 Sycamore Creek Rd., Escondido, California 92025

Del Mar Library, 1309 Camino del Mar, Del Mar, California

Carmel Valley Library, 3919 Townsgate Drive, San Diego, California

Solana Beach Branch Library, 981 Lomas Santa Fe Drive, Suite F, Solana Beach, California

FOR FURTHER INFORMATION CONTACT: Jack Fancher, Coastal Program Coordinator, Fish and Wildlife Service, 2730 Loker Ave. West, Carlsbad, California 92008; phone (760) 431-9440

SUPPLEMENTARY INFORMATION: This FEIS/R has been prepared and is being circulated in accordance with the National Environmental Policy Act (NEPA). This project involves the proposal to implement a comprehensive habitat restoration plan with a public access component for an approximately 400-acre area known as the San Dieguito Lagoon. The project site is in the western San Dieguito River Valley under the influence of the Pacific Ocean, within the northwestern-most portions of the City of San Diego and the City of Del Mar in San Diego County, CA.

A major component of this planning effort is a tidal restoration proposal to: (1) Restore the aquatic functions of the lagoon through permanent inlet maintenance and expansion of the lagoon's tidal prism; and (2) create subtidal and intertidal habitats on both the east and west sides of Interstate 5, which bisects the project site. It is anticipated that tidal restoration would be accomplished primarily by Southern California Edison and partners (SCE), provided the restoration satisfies the conditions of the California Coastal Commission (CCC) permit for the construction and operation of the San Onofre Nuclear Generating Station (SONGS) Units 2 and 3. Upland habitat restoration, non-tidal wetland restoration, endangered species habitat improvements, and public trails and interpretive facilities would be provided by the San Dieguito River Park in cooperation with other agencies and organizations including the Fish and Wildlife Service, Coastal Conservancy, Cities of Del Mar and San Diego, and others.

The Final EIS/R analyzes six project alternatives including the Mixed Habitat, Maximum Tidal Basin, Maximum Intertidal, Hybrid, Reduced Berm, and No Action Alternatives. The lead agencies indicate a preference for the Mixed Habitat alternative. The project includes measures to mitigate some potential impacts, while other mitigation will be made conditions of subsequent permits.

Dated: September 8, 2000.
Elizabeth A. Stevens,
Acting Manager, California-Nevada Office, Fish and Wildlife Service.

[FR Doc. 00-23728 Filed 9-18-00; 8:45 am]

BILLING CODE 4310-55-P